TENNESSEE VALLEY AUTHORITY

Meeting of the Regional Resource Stewardship Council

AGENCY: Tennessee Valley Authority (TVA).

ACTION: Notice of Meeting.

SUMMARY: The Regional Resource Stewardship Council (Regional Council) will hold a meeting to consider various matters. Notice of this meeting is given under the Federal Advisory Committee Act, 5 U.S.C. App. 2 (FACA).

The meeting agenda includes the following briefings:

1. Watershed Teams

2. Stewardship Planning

3. Shoreline Management

4. 26a Permitting

5. Subcommittee Reports

It is the Regional Council's practice to provide an opportunity for members of the public to make oral public comments at its meetings. However, due to the short meeting time, an opportunity for members of the public to make oral public comments at the meeting will not be provided. Written comments, however, are invited and may be mailed to the Regional Resource Stewardship Council, Tennessee Valley Authority, 400 West Summit Hill Drive, WT 11A, Knoxville, Tennessee 37902.

DATES: The meeting will be held in two sessions on July 28, 2000, from 8 a.m. to 9:45 a.m. and from 3:15 p.m. to 5 p.m. EDT.

ADDRESSES: The meeting will be held in Knoxville, Tennessee, in the West Tower Auditorium at the Tennessee Valley Authority, 400 West Summit Hill Drive, Knoxville, Tennessee 37902, and will be open to the public. Anyone needing special access or accommodations should let the contact below know at least a week in advance.

FOR FURTHER INFORMATION CONTACT: Sandra L. Hill, 400 West Summit Hill Drive, WT 11A, Knoxville, Tennessee 37902-1499, (865) 632-2333.

Dated: June 30, 2000.
Kathryn J. Jackson,
Executive Vice President, River System Operations & Environment, Tennessee Valley Authority.

[FR Doc. 00-17484 Filed 7-10-00; 8:45 am]

BILLING CODE 8120-08-M